DEPARTMENT OF ENERGY

Federal Energy Regulatory Commission

[Project No. 5912-003]

Town of Dover-Foxcroft; Notice of Effectiveness of Withdrawal of Application for Amendment of Exemption

On November 23, 2020, the Town of Dover-Foxcroft (Maine) filed an application for amendment of the exemption for the 300-kilowatt Moosehead Hydroelectric Project No. 5912. On December 30, 2022, the Town of Dover-Foxcroft filed a request to withdraw its application.

No motion in opposition to the request for withdrawal has been filed, and the Commission has taken no action to disallow the withdrawal. Pursuant to Rule 216(b) of the Commission's Rules of Practice and Procedure,¹ the withdrawal of the application became effective on January 16, 2023,² and this proceeding is hereby terminated.

¹ 18 CFR 385.216(b) (2021).

² The Commission's Rules of Practice and Procedure provide that if a deadline falls on a Saturday, Sunday, holiday, or other day when the Commission is closed for business, the deadline does not end until the close of business on the next business day. 18 CFR 385.2007(a)(2) (2021).

Dated: January 30, 2023.
Kimberly D. Bose,
Secretary.

[FR Doc. 2023-02301 Filed 2-2-23; 8:45 am]

BILLING CODE 6717-01-P